NUCLEAR REGULATORY COMMISSION

[Docket Nos. 50-247 and 50-286]

Entergy Nuclear Operations, Inc., Indian Point Nuclear Generating Unit Nos. 2 and 3; Notice of Intent To Prepare an Environmental Impact Statement and Conduct Scoping Process

Entergy Nuclear Operations, Inc. (Entergy) has submitted an application for renewal of Facility Operating Licenses Nos. DPR-26 and DPR-64 for an additional 20 years of operation at Indian Point Nuclear Generating Unit Nos. 2 and 3. Indian Point is located in Buchanan, NY.

The current operating licenses for Indian Point Nuclear Generating Unit Nos. 2 and 3 expire on September 9, 2013, and December 12, 2015, respectively. The application for renewal, dated April 23, 2007, as supplemented by letters dated May 3, 2007, and June 21, 2007, was submitted pursuant to Title 10 of the Code of Federal Regulations (10 CFR) Part 54. A notice of receipt and availability of the application, which included Entergy's environmental report (ER), was published in the Federal Register on May 11, 2007 (72 FR 26850). A notice of acceptance for docketing of the application for renewal of the facility operating license was published in the Federal Register on August 1, 2007 (72 FR 42134). The purpose of this notice is to inform the public that the U.S. Nuclear Regulatory Commission (NRC) will be preparing an environmental impact statement (EIS) related to the review of the license renewal application and to provide the public an opportunity to participate in the environmental scoping process, as defined in 10 CFR 51.29. In addition, as outlined in 36 CFR 800.8, “Coordination with the National Environmental Policy Act,” the NRC plans to coordinate compliance with Section 106 of the National Historic Preservation Act in meeting the requirements of the National Environmental Policy Act of 1969 (NEPA).

In accordance with 10 CFR 51.53(c) and 10 CFR 54.23, Entergy submitted the ER as part of the application. The ER was prepared pursuant to 10 CFR part 51 and is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the ER is ML071210530. Persons who do not have access to ADAMS, or who encounter problems in accessing the documents located in ADAMS, should contact the NRC's PDR reference staff by telephone at 1-800-397-4209, or 301-415-4737, or by e-mail at pdr@nrc.gov. The ER may also be viewed on the internet at http://www.nrc.gov/reactors/operating/licensing/renewal/applications/indian-point.html. In addition, the ER is available for public inspection near Indian Point at the following three public libraries: the White Plains Public Library, 100 Martine Avenue, White Plains, NY 10601; the Field Library, 4 Nelson Avenue, Peekskill, NY 10566; and the Hendrick Hudson Free Library, 185 Kings Ferry Road, Montrose, NY 10548.

This notice advises the public that the NRC intends to gather the information necessary to prepare a plant-specific supplement to the Commission's “Generic Environmental Impact Statement (GEIS) for License Renewal of Nuclear Plants” (NUREG-1437), related to the review of the application for renewal of the Indian Point Nuclear Generating Unit Nos. 2 and 3 operating licenses for an additional 20 years. Possible alternatives to the proposed action (license renewal) include no action and reasonable alternative energy sources. The NRC is required by 10 CFR 51.95 to prepare a supplement to the GEIS in connection with the renewal of an operating license. This notice is being published in accordance with NEPA and the NRC's regulations found in 10 CFR Part 51.

The NRC will first conduct a scoping process for the supplement to the GEIS and, as soon as practicable thereafter, will prepare a draft supplement to the GEIS for public comment. Participation in the scoping process by members of the public and local, State, Tribal, and Federal government agencies is encouraged. The scoping process for the supplement to the GEIS will be used to accomplish the following:

a. Define the proposed action which is to be the subject of the supplement to the GEIS.

b. Determine the scope of the supplement to the GEIS and identify the significant issues to be analyzed in depth.

c. Identify and eliminate from detailed study those issues that are peripheral or that are not significant.

d. Identify any environmental assessments and other EISs that are being or will be prepared that are related to, but are not part of, the scope of the supplement to the GEIS being considered.

e. Identify other environmental review and consultation requirements related to the proposed action.

f. Indicate the relationship between the timing of the preparation of the environmental analyses and the Commission's tentative planning and decision-making schedule.

g. Identify any cooperating agencies and, as appropriate, allocate assignments for preparation and schedules for completing the supplement to the GEIS to the NRC and any cooperating agencies.

h. Describe how the supplement to the GEIS will be prepared, and include any contractor assistance to be used.

The NRC invites the following entities to participate in scoping:

a. The applicant, Entergy Nuclear Operations, Inc.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who has petitioned or intends to petition for leave to intervene.

In accordance with 10 CFR 51.26, the scoping process for an EIS may include a public scoping meeting to help identify significant issues related to a proposed activity and to determine the scope of issues to be addressed in an EIS. The NRC has decided to hold public scoping meetings for the Indian Point Nuclear Generating Unit Nos. 2 and 3 license renewal supplement to the GEIS. The scoping meetings will be held at the Colonial Terrace, 119 Oregon Road, Cortlandt Manor, New York, on Wednesday, September 19, 2007. There will be two sessions to accommodate interested parties. The first session will convene at 1:30 p.m. and will continue until 4:30 p.m., as necessary. The second session will convene at 7 p.m. with a repeat of the overview portions of the meeting and will continue until 10 p.m., as necessary. Both meetings will be transcribed and will include: (1) An overview by the NRC staff of the NEPA environmental review process, the proposed scope of the supplement to the GEIS, and the proposed review schedule; and (2) the opportunity for interested government agencies, organizations, and individuals to submit comments or suggestions on the environmental issues or the proposed scope of the supplement to the GEIS. Additionally, the NRC staff will host informal discussions one hour before the start of each session at the Colonial Terrace in Cortlandt Manor. No formal comments on the proposed scope of the supplement to the GEIS will be accepted during the informal discussions. To be considered, comments must be provided either at the transcribed public meetings or in writing, as discussed below. Persons may register to attend or present oral comments at the meetings on the scope of the NEPA review by contacting NRC's Senior Project Manager, Mr. Bo Pham, at 1-800-368-5642, extension 8450, or by e-mail to the NRC at IndianPointEIS@nrc.gov no later than September 10, 2007. Members of the public may also register to speak at the meeting within 15 minutes of the start of each session. Individual oral comments may be limited by the time available, depending on the number of persons who register. Members of the public who have not registered may also have an opportunity to speak, if time permits. Public comments will be considered in the scoping process for the supplement to the GEIS. Mr. Pham will need to be contacted no later than September 10, 2007, if special equipment or accommodations are needed to attend or present information at the public meeting, so that the NRC staff can determine whether the request can be accommodated.

Members of the public may send written comments on the environmental scope of the Indian Point Nuclear Generating Unit Nos. 2 and 3 license renewal review to: Chief, Rules and Directives Branch, Division of Administrative Services, Office of Administration, Mailstop T-6D59, U.S. Nuclear Regulatory Commission, Washington, DC, 20555-0001, and should cite the publication date and page number of this Federal Register notice. Comments may also be delivered to the NRC, Room T-6D59, Two White Flint North, 11545 Rockville Pike, Rockville, Maryland 20852, from 7:30 a.m. to 4:15 p.m. during Federal workdays. To be considered in the scoping process, written comments should be postmarked by October 12, 2007. Electronic comments may be sent by e-mail to the NRC at Indian PointEIS@nrc.gov, and should be sent no later than October 12, 2007, to be considered in the scoping process. Comments will be available electronically and accessible through ADAMS at http://adamswebsearch.nrc.gov/dologin.htm.

Participation in the scoping process for the supplement to the GEIS does not entitle participants to become parties to the proceeding to which the supplement to the GEIS relates. Notice of opportunity for a hearing regarding the renewal application was the subject of the aforementioned Federal Register notice (72 FR 42134). Matters related to participation in any hearing are outside the scope of matters to be discussed at this public meeting.

At the conclusion of the scoping process, the NRC will prepare a concise summary of the determination and conclusions reached, including the significant issues identified, and will send a copy of the summary to each participant in the scoping process. The summary will also be available for inspection in ADAMS at http://adamswebsearch.nrc.gov/dologin.htm. The staff will then prepare and issue for comment the draft supplement to the GEIS, which will be the subject of a separate notice and separate public meetings. Copies will be available for public inspection at the above-mentioned addresses, and one copy per request will be provided free of charge. After receipt and consideration of the comments, the NRC will prepare a final supplement to the GEIS, which will also be available for public inspection.

Information about the proposed action, the supplement to the GEIS, and the scoping process may be obtained from Mr. Pham at the aforementioned telephone number or e-mail address.

Dated at Rockville, Maryland, this 6th day of August 2007.
For the Nuclear Regulatory Commission.
Rani Franovich,
Branch Chief, Environmental Branch B, Division of License Renewal,Office of Nuclear Reactor Regulation.

[FR Doc. E7-15636 Filed 8-9-07; 8:45 am]

BILLING CODE 7590-01-P